DEPARTMENT OF ENERGY

Environmental Management Site-Specific Advisory Board, Semi-Annual Chairs Meeting

AGENCY: Department of Energy.

ACTION: Notice of open meeting.

SUMMARY: This notice announces a meeting of the Environmental Management Site-Specific Advisory Board (EM SSAB), Semi-Annual Chairs Meeting. The Federal Advisory Committee Act (Pub. L. 92-463, 86 Stat. 770) requires that public notice of these meetings be announced in the Federal Register.

DATES: Thursday, February 8, 2001, 6:45 a.m.-5:30 p.m.

Friday, February 9, 2001, 8 a.m.-5:30 p.m.

Saturday, February 10, 2001 8 a.m.-1:30 p.m.

ADDRESSES: St. Tropez All Suite Hotel, 455 East Harmon Avenue, Las Vegas, Nevada 89101, Phone: (702) 369-5400 or (800) 666-5400.

FOR FURTHER INFORMATION CONTACT: Martha Crosland, Designated Federal Officer, U.S. Department of Energy, 1000 Independence Avenue, SW., Washington, DC 20585, (202) 586-5793.

SUPPLEMENTARY INFORMATION: Purpose of the Board: The purpose of the Board is to make recommendations to DOE and its regulators in the areas of future use, cleanup levels, waste disposition, and cleanup priorities.

Tentative Agenda

Thursday, February 8, 2001: EM SSAB Chairs Meeting (Day 1)

6:45 a.m.-5:30 p.m, Joint tour of the Nevada Test Site and Yucca Mountain

6:00 p.m.-7:00 p.m., Opening reception at the St. Tropez Hotel

Friday, February 9, 2001: EM SSAB Chairs Meeting (Day 2)

6:30-8:00 a.m., Continental Breakfast buffet in Truffles Lounge

8:00-8:20 a.m., Opening/Welcoming Remarks/Overview of Agenda (Martha Crosland, DOE/HQ; Carl Gertz, DOE/NV AMEM; etc.)

8:20-8:25 a.m., Introduction of Facilitators and Review of Ground Rules (Ted McAdam, et.al.)

8:25-9:30 a.m., Round Robin Ice Breaker. SSAB Chairs will introduce participants from their Boards and briefly list their Boards' Top Three Issues of Concern

9:30-9:40 a.m., Overview of Survey Results and Objectives of Topic-Specific Round Robins and Facilitated Discussions

9:40-10:30 a.m., Topic #1 Round Robin (five minutes for each SSAB). What is your Board's desired composition and how are new members recruited and selected? How effective is that process?

10:30-10:45 a.m., Morning break

10:45-11:25 a.m., Topic #1 Facilitated Discussion

11:25 a.m.-12:05 p.m., Topic #2 Round Robin (four minutes for each SSAB). How does your Board develop its annual work plan? How does your Board set its agenda?

12:05-12:40 p.m., Topic #2 Facilitated Discussion

12:40-1:45 p.m., Buffet lunch served in the hotel

1:45-2:25 p.m., Topic #3 Round Robin (four minutes for each SSAB). How are your Boards's committees structured? How do your Board's committees function? Do non-members participate in committee work?

2:25-3:00 p.m., Topic #3 Facilitated Discussion

3:00-3:15 p.m., Afternoon Break

3:15-3:55 p.m., Topic #4 Round Robin (four minutes for each SSAB). How does your Board develop its recommendations/advice? To whom are your recommendations addressed?

3:55-4:30 p.m., Topic #4 Facilitated Discussion

4:30-5:15 p.m., Review and Approval of Stewardship Core Value Statements

5:15-5:30 p.m., Public Comment

5:30-7:00 p.m., Free time

7:00 p.m. Dine Around Las Vegas. Groups depart for area restaurants—transportation to be provided

Saturday, February 10, 2001: EM SSAB Chairs Meeting (Day 3)

6:30-8:00 a.m., Continental Breakfast Buffet in Truffles Lounge

8:00-8:10 a.m., Welcome and Recap of Previous Day's Work (Martha Crosland or Ted McAdam)

8:10-8:50 a.m., Topic #5 Round Robin (five minutes for each SSAB). How does your Board conduct public outreach and how effective is that effort?

8:50-9:25 a.m., Topic #5 Facilitated Discussion

9:35-10:15 a.m., Topic #6 Round Robin (five minutes for each SSAB). How does your Board conduct self-evaluations, who else evaluates the Board's performance, and how effective is/are that/those process(es)?

10:15-10:55 a.m., Topic #6 Facilitated Discussion

10:55-11:10 a.m., Morning break

11:10a.m.-12:10 p.m., Facilitated Discussion of Issues of Concern to Each Site. Issues discussed will be based on those recorded during the Friday morning Ice Breaker Round Robin discussion.

12:10-12:30 p.m., Updates from DOE Headquarters

• Revised DOE Public Participation Policy Public Review & Comment

• Status Report Regarding Changes at DOE Under the New Administration (Betty Nolan)

12:30-12:45 p.m., Critique of the SSAB Chairs Meeting

12:45-1:00 p.m., Future SSAB Meetings and Workshops—Martha Crosland

1:00-1:15 p.m., Public comment

1:15-1:30 p.m., Closing remarks

1:30 p.m., Adjourn

(Agenda topics may change up to the day of the meetings: please contact Martha Crosland, Designated Federal Officer, (202) 586-5793 for the current agenda.

Public Participation: The meeting is open to the public. Written statements may be filed with the Board facilitator either before or after the meeting. Individuals who wish to make oral statements pertaining to agenda items should contact the Board Chair at their specific site, or Martha Crosland. Requests must be received five days prior to the meeting and reasonable provision will be made to include the presentation in the agenda. The Designated Federal Officer, Martha Crosland, U.S. Department of Energy, is empowered to conduct the meeting in a fashion that will facilitate the orderly conduct of business. Each individual wishing to make public comment will be provided a maximum of five minutes to present their comments.

Minutes: A written summary of this meeting will be available for public review and copying at the Freedom of Information Public Reading Room, 1E-190, Forrestal Building, 1000 Independence Avenue, SW, Washington, DC, 20585 between 9 a.m. and 4 p.m., Monday-Friday, except Federal holidays. The meeting summary will also be available by writing the EM-SSAB Chair or Designated Deputy Federal Officer of every EM-SSAB that participated in the meeting.

Issued at Washington, DC on January 11, 2001.
Rachel Samuel,
Deputy Advisory Committee Management Officer.

[FR Doc. 01-1481 Filed 1-17-01; 8:45 am]

BILLING CODE 6450-01-P